POSTAL SERVICE

Privacy Act; System of Records

AGENCY: Postal Service™.

ACTION: Notice of a modified system of records.

SUMMARY: The United States Postal Service™ (USPS™) is proposing to revise a General and Customer Privacy Act System of Records. These updates are being made to facilitate use of market research tools that will be implemented by the Chief Customer and Marketing Organization within the Postal Service to assess new and existing USPS and competitive products, services, processes, and campaigns in order to gauge attitudes, perceptions, opinions, habits, and usage of USPS products and services from voluntary participants (including employees and customers).

DATES: These revisions will become effective without further notice on August 4, 2022, unless comments received on or before that date result in a contrary determination.

ADDRESSES: Comments may be submitted via email to the Privacy and Records Management Office, United States Postal Service Headquarters (privacy@usps.gov). Arrangements to view copies of any written comments received, to facilitate public inspection, will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records.

The Postal Service has determined that Customer Privacy Act Systems of Records (SOR), USPS 890.000, Sales, Marketing, Events, and Publications and General Privacy Act SOR 100.600, Personnel Research Records should be revised to support the implementation of market research tools.

I. Background

The Marketing Department, specifically the Customer Insights and Marketing Strategy team, is responsible for managing customer, employee, and market research across the USPS. This includes, but is not limited to initiatives such as:

• Advertising Campaigns

• Brand Strategy

• Strategic Customer Programs

• Customer Experience with Products and Services, including Call Center

• Innovation

• Product Improvements and Development

The Marketing organization utilizes best-in-class market research tools that are used across public, private and academic settings. The tools also provide the evidence, proof points, and data for decision-makers at USPS to determine what actions are optimal for the Postal Service.

The following tools are used by the Marketing department to provide foresight and intelligence across the organization:

• Focus groups

• Surveys

• Interviews

• Diaries

• Observational Studies

• Prototype assessment

• A/B Comparison Testing

II. Rationale for Changes to USPS Privacy Act Systems of Records

The Postal Service is proposing to modify USPS SORs 100.600 and 890.000 to support the use of market research and insights tools by the Marketing Department that will be utilized to improve the effectiveness for business decision making across the organization. Use of these tools enhance insight collection and assessment of new products, services, processes and campaigns for USPS. These SOR modifications are necessary for acquiring data to generate the insights for senior leadership decisions, such as for the USPS Leadership Team.

III. Description of the Modified System of Records

Pursuant to 5 U.S.C. 552a(e)(11), interested persons are invited to submit written data, views, or arguments on this proposal. A report of the proposed revisions has been sent to Congress and to the Office of Management and Budget for their evaluations. The Postal Service does not expect these amended systems of records to have any adverse effect on individual privacy rights. USPS SOR 890.000, Sales, Marketing, Events, and Publications and 100.600 Personnel Research Records are provided below in their entirety as follows:

SYSTEM NAME AND NUMBER:

USPS 890.000, Sales, Marketing, Events, and Publications.

SECURITY CLASSIFICATION:

None.

SYSTEM LOCATION:

USPS Headquarters Marketing and Public Policy; Integrated Business Solutions Services Centers; National Customer Service Center; Area and District USPS facilities; Post Offices; and contractor sites.

SYSTEM MANAGER(S) AND ADDRESS:

Chief Customer and Marketing Officer and Executive Vice President, United States Postal Service, 475 L'Enfant Plaza SW, Washington, DC 20260-4016.

AUTHORITY FOR MAINTENANCE OF THE SYSTEM:

39 U.S.C. 401, 403, and 404.

PURPOSE(S) OF THE SYSTEM:

1. To understand the needs of customers and improve USPS sales and marketing efforts.

2. To provide appropriate materials and publications to customers.

3. To conduct registration for USPS and related events.

4. To enable access to the USPS meeting and video web conferencing application.

5. To enhance your online meeting experience by utilizing enhanced features and functionality, including voluntary polling to gather responses from attendees to generate reports or the interactive chat feature.

6. To facilitate team collaboration and communication through information sharing and cross-functional participation.

7. To allow task allocation and tracking among team members.

8. To allow users to communicate by telephone and instant-messaging through web-based applications.

9. To provide users outside of the USPS limited collaboration and communication capabilities through guest account access.

10. To facilitate and support cybersecurity investigations of detected or reported information security incidents.

11. To share your personal image via your device camera during meetings and web conferences, if you voluntarily choose to turn the camera on, enabling virtual face-to-face conversations.

12. To facilitate and support marketing initiatives, advertising campaigns, brand strategy, customer experience with products and service, including call centers, strategic customer programs, and innovation and product improvement development.

CATEGORIES OF INDIVIDUALS COVERED BY THE SYSTEM:

1. Customers who interact with USPS sales personnel, respond to direct marketing messages, request publications, respond to contests and surveys, voluntarily participate in focus groups, interviews, diaries, observational studies, prototype assessments, A/B comparison tests, and attend USPS events.

2. Customers and other individuals who participate in web-based meeting, video conference, collaboration, and communication applications sponsored by the USPS.

CATEGORIES OF RECORDS IN THE SYSTEM:

1. Customer information: Customer and key contacts' names, date of birth, age, home mailing address, and email address; phone, fax, and pager numbers; company name, job descriptions, titles, roles, level, and company address; other names and emails provided by customers.

2. Identifying information: Customer ID(s), D-U-N-S Numbers, USPS account numbers, meter numbers, and signatures.

3. Business specific information: Firm name, size, and years in business; number of employees; sales and revenue information; business sites and locations; URLs; company age; industrial classification numbers; use of USPS and competitor's products and services; types of customers served; customer equipment and services; advertising agency and spending; names of USPS employees serving the firm; and calls made.

4. Information specific to companies that act as suppliers to USPS: Contract start and end dates, contract award number, contract value, products and/or services sold under contract.

5. Information provided by customers as part of a survey or contest.

6. Payment information: Credit and/or debit card number, type, expiration date, and check information; and ACH information.

7. Event information: Name of event; role at event; itinerary; and membership in a PCC.

8. Customer preferences: Preferences for badge name and accommodations.

9. Participant session data from web-based meetings and web conferences: Participant name, participant's webcam-generated image (including presenters), recorded participant audio, video, and shared meeting screen content, chat interaction, polling questions and associated responses, participant join time and leave time, meeting duration, participant location, and participant media hardware information.

10. Event session data from web-based meetings and web conferences: Event start time, event status, event organizer, event presenter, event producer, event production type, event recording setting, total number of event media viewings.

11. Historical device usage data from web-based meetings and web conferences: Device type (such as mobile, desktop, or tablet), Device Operating System, Number of users of related Operating Systems, Operating System Version, MAC address, and IP address.

12. Historical application usage data from web-based meetings and web conferences: Number of active users, number of active users in groups, number of active group communication channels, number of messages sent, number of calls participated in, last activity date of a user, and number of guest users in a group.

13. Web-based Public Switched Telephone Network data records: Phone number, time phone call started, user name, call type, phone number called to, phone number called from, called to location, called from location, telephone minutes used, telephone minutes available, charges for use of telephone services, currency of charged telephone services, call duration, call ID, conference ID, phone number type, blocked phone numbers, blocking action, reason for blocking action, blocked phone number display name, date and time of blocking.

14. Web-based Direct Routing Public Switched Telephone Network records: Call start time, user display name, SIP address, caller number, called to number, call type, call invite time, call failure time, call end time, call duration, number type, media bypass, SBC FQDN, data center media path, data center signaling path, event type, final SIP, final vendor subcode, final SIP phrase, unique customer support ID.

15. Survey data: customer perception, feelings, habits, past behaviors, preferences, recommended improvements, willingness to buy, ownership, and hypothetical future scenarios.

RECORD SOURCE CATEGORIES:

Customers, USPS personnel, and list providers.

ROUTINE USES OF RECORDS IN THE SYSTEM, INCLUDING CATEGORIES OF USERS AND THE PURPOSES OF SUCH USES:

Standard routine uses 1. through 7., 10., and 11. apply.

POLICIES AND PRACTICES FOR STORAGE OF RECORDS:

Automated databases, computer storage media, and paper.

POLICIES OF PRACTICES FOR RETRIEVAL OF RECORDS:

1. For sales, events, and publications, information is retrieved by customer name or customer ID(s), mail or email address, and phone number.

2. For direct marketing, information is retrieved by Standard Industry Code (SIC) or North American Industry Classification System (NAISC) number, and company name.

3. Report and tracking data created during web-based meetings and video conferences that pertain to individual participants, content shared, conference codes and other relevant session data and historical device usage data, are retrieved by meeting ID, host name or host email address.

4. Records pertaining to web-based collaboration and communication applications are retrieved by organizer name and other associated personal identifiers.

5. Media recordings created during web-based meetings and video conferences are retrieved by meeting ID, host name or host email address.

6. Web-based meeting and video session recordings are retrieved by meeting ID, host name or host email address.

POLICIES AND PRACTICES FOR RETENTION AND DISPOSAL OF RECORDS:

1. Records relating to organizations and publication mailing lists are retained until the customer ceases to participate.

2. ACH records are retained up to 2 years. Records relating to direct marketing, advertising, and promotions are retained 5 years.

3. Other records are retained 3 years after the relationship ends.

4. Report and tracking data created during web-based meeting and video conferences, such as session data and historical device usage data, are retained for twenty-four months.

5. Records pertaining to web-based collaboration and communication applications are retained for twenty-four months.

6. Web-based meeting and video session recordings are retained for twenty-four months.

7. Customer insight, market research, and survey records will be retained for 3 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmission is protected by encryption.

RECORD ACCESS PROCEDURES:

Requests for access must be made in accordance with the Notification Procedure above and USPS Privacy Act regulations regarding access to records and verification of identity under 39 CFR 266.5.

CONTESTING RECORD PROCEDURES:

See Notification Procedure and Record Access Procedures.

NOTIFICATION PROCEDURE:

For information pertaining to sales, inquiries should be addressed to: Sales and Customer Relations 475 L'Enfant Plaza SW, Washington, DC 20260.

Customers wanting to know if other information about them is maintained in this system of records must address inquiries in writing to the Chief Customer and Marketing Officer and Executive Vice President and include their name and address.

EXEMPTIONS PROMULGATED FROM THIS SYSTEM:

None.

HISTORY:

August 4, 2020, 85 FR 47258; June 1, 2020, 85 FR 33208; October 24, 2011, 76 FR 65756; April 29, 2005, 70 FR 22516.

SYSTEM NAME AND NUMBER:

USPS 100.600 Personnel Research Records

SECURITY CLASSIFICATION:

None.

SYSTEM LOCATION:

USPS Headquarters, Integrated Business Solutions Services Centers, and contractor sites.

SYSTEM MANAGER(S) AND ADDRESS:

Vice President, Human Resource, United States Postal Service, 475 L'Enfant Plaza SW, Washington, DC 20260-4135.

AUTHORITY FOR MAINTENANCE OF THE SYSTEM:

39 U.S.C. 401, 410, 1001, and 1005.

PURPOSE(S) OF THE SYSTEM:

1.To support research and development efforts on personnel assessment instruments, recruitment efforts, workforce analysis, and evaluation of human resource management practices.

2. To assess the impact of selection decisions on applicants in race, ethnicity, sex, tenure, age, veteran status, and disability categories.

3. To facilitate and support marketing initiatives, advertising campaigns, brand strategy, strategic customer programs, customer experience with products and services, including call centers, and innovation and product improvement development.

CATEGORIES OF INDIVIDUALS COVERED BY THE SYSTEM:

1. Potential applicants for USPS employment, applicants for USPS employment, USPS employee applicants for reassignment and/or promotion, employees whose work records or solicited responses are used in research projects, and former USPS employees.

2. Employees who voluntarily respond to direct marketing messages, respond to surveys, voluntarily participate in focus groups, interviews, diaries, observational studies, prototype assessments, and A/B comparison tests.

CATEGORIES OF RECORDS IN THE SYSTEM:

1. Applicant, potential applicant with candidate profile, and employee information: Name, Social Security Number, Candidate Identification Number, Employee Identification Number (EIN), or respondent identification code, place of birth, date of birth, age, postal assignment or vacancy/posting information, work contact information, home address and personal phone number(s), personal email address, finance number(s), title, level, duty location, and pay location.

2. Personnel research information: Records related to race, ethnicity, sex, tenure, age, veteran status, and disability status (only if volunteered by the individual); research project identifiers; and other information pertinent to personnel research.

3. Survey data: employee perception, feelings, habits, past behaviors, preferences, recommended improvements, experiences with customers, ownership, and hypothetical future scenarios.

RECORD SOURCE CATEGORIES:

USPS employees, former employees, applicants, and potential applicants with candidate profiles who provide information to personnel research programs and other systems of records.

ROUTINE USES OF RECORDS IN THE SYSTEM, INCLUDING CATEGORIES OF USERS AND THE PURPOSES OF SUCH USES:

Standard routine uses 1 through 9 apply.

POLICIES AND PRACTICES FOR STORAGE OF RECORDS:

Automated database, computer storage media, digital files, and paper files.

POLICIES OF PRACTICES FOR RETRIEVAL OF RECORDS:

By individual name, Social Security Number, Candidate Identification Number, Employee Identification Number, personal email address, respondent identification code, research project identifiers, postal assignment or vacancy/posting information, duty or pay location, or location where data were collected.

POLICIES AND PRACTICES FOR RETENTION AND DISPOSAL OF RECORDS:

1. Retention depends on the type of research project but does not exceed 10 years.

2. Data retained for surveys conducted by Customer insight, market research and survey records will be retained for 3 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures.

NOTIFICATION PROCEDURE:

Individuals wanting to know if information about them is maintained in this system of records must address inquiries to the Vice President, Employee Resource Management, 475 L'Enfant Plaza SW, Washington, DC 20260.

In cases of studies involving information not collected through an examination, individuals must address inquiries to the system manager. Inquiries must contain full name; Candidate Identification Number, Employee Identification Number, or respondent identification code, and subject or purpose of research/survey; and date and location of their participation.

EXEMPTIONS PROMULGATED FROM THIS SYSTEM:

Pursuant to 5 U.S.C. 552a(j) and (k), USPS has established regulations at 39 CFR 266.9 that exempt records in this system depending on their purpose. The USPS has also claimed exemption from certain provisions of the Act for several of its other systems of records at 39 CFR 266.9. To the extent that copies of exempted records from those other systems are incorporated into this system, the exemptions applicable to the original primary system continue to apply to the incorporated records.

HISTORY:

July 19, 2013; 78 FR 43247; June 17, 2011; 76 FR 35483; April 29, 2005; 70 FR 22516.

* * * * *

Sarah E. Sullivan,
Attorney, Ethics and Legal Compliance.

[FR Doc. 2022-14277 Filed 7-1-22; 8:45 am]

BILLING CODE 7710-12-P